DEPARTMENT OF THE INTERIOR

Bureau of Land Management

[LLAK-963000-L1410000-ET0000; F-90576]

Notice of Proposed Withdrawal Extension and Opportunity for Public Meeting; AK

AGENCY: Bureau of Land Management, Interior.

ACTION: Notice.

SUMMARY: The Assistant Secretary for Policy, Management and Budget proposes to extend the duration of Public Land Order (PLO) No. 7032 for an additional 20-year period. PLO No. 7032 withdrew approximately 2,560 acres of public land from settlement, sale, location, or entry under the general land laws, including location and entry, under the United States mining laws, but not from leasing under the mineral leasing laws, to protect the archaeological, historical, and cultural resource integrity of the Paleoindian site known as Mesa Site. This notice gives an opportunity for the public to comment on the proposed withdrawal extension and to request a public meeting.

DATES: Comments and requests for a public meeting must be received by November 13, 2012.

ADDRESSES: Comments and meeting requests should be sent to the Alaska State Director, BLM Alaska State Office, 222 West Seventh Avenue, No. 13, Anchorage, Alaska 99513-7504.

FOR FURTHER INFORMATION CONTACT: Robert L. Lloyd, BLM Alaska State Office, 907-271-4682 or at the address above. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The withdrawal, created by PLO No. 7032 (59 FR 11196, (1994)), will expire on March 9, 2014, unless extended. PLO No. 7032 is incorporated herein by reference. The Bureau of Land Management (BLM) filed a petition/application to extend PLO No. 7032 for an additional 20-year period. PLO No. 7032 withdrew approximately 2,560 acres of public land from settlement, sale, location, or entry under the general land laws, including location and entry under the United States mining laws, but not from leasing under the mineral leasing laws, to protect a Paleoindian site known as Mesa Site. A complete description, along with all other records pertaining to the extension application, can be examined in the BLM Alaska State Office at the address shown above.

As extended, the withdrawal would not alter the applicability of those public land laws governing the use of land under lease, license, or permit or governing the disposal of the mineral or vegetative resources other than under the mining laws.

The use of a right-of-way, interagency, or cooperative agreement would not adequately protect the Federal interest in the Mesa Site.

There are no suitable alternative sites available that could be substituted for the above described public land, since the Mesa Site is unique.

No water rights would be needed to fulfill the purpose of the requested withdrawal extension.

For a period of 90 days from the date of publication of this notice, all persons who wish to submit comments, suggestions, or objections in connection with the proposed withdrawal extension may present their views in writing to the BLM Alaska State Director at the address indicated above. Before including your address, phone number, email address, or other personal identifying information in your comment, you should be aware that your entire comment—including your personal identifying information—may be made publicly available at any time. While you can ask us in your comment to withhold your personal identifying information from public review, we cannot guarantee that we will be able to do so. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal extension. All interested parties who desire a public meeting for the purpose of being heard on the proposed withdrawal extension must submit a written request to the BLM Alaska State Director within 90 days from the date of publication of this notice. Upon determination by the authorized officer that a public meeting will be held, a notice of the time and place will be published in the Federal Register and a local newspaper at least 30 days before the scheduled date of the meeting.

The withdrawal extension proposal will be processed in accordance with the regulations set forth in 43 CFR 2310.4 and subject to Section 810 of the Alaska National Interest Lands Conservation Act (16 U.S.C. 3120).

Authority: 43 CFR 2310.3-1(b).

Robert L. Lloyd,
Supervisor, Lands, Realty, and Title Transfer Program, Division of Alaska Lands.

[FR Doc. 2012-20036 Filed 8-14-12; 8:45 am]

BILLING CODE 1410-JA-P